DEPARTMENT OF HEALTH AND HUMAN SERVICES

Centers for Disease Control and Prevention

[30Day-11-11AC]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Using Traditional Foods and Sustainable Ecological Approaches for Health Promotion and Diabetes Prevention in American Indian/Alaska Native Communities—New—National Center for Chronic Disease Prevention and Health Promotion (NCCDPHP), Centers for Disease Control and Prevention (CDC).

Background and Brief Description

Type 2 Diabetes was rare among American Indians until the 1950s. Since that time, diabetes has become one of the most common and serious illnesses among American Indians and Alaska Natives (AI/AN). From 1994 to 2004, the age-adjusted prevalence of diagnosed diabetes doubled (from 8.5 to 17.1 per 1,000 population) among AI/ANs less than 35 years of age who used Indian Health Service healthcare services. However, dietary management and physical activity can help to prevent or control Type 2 diabetes.

In 2008, the CDC's Native Diabetes Wellness Program (NDWP), in consultation with American Indian/Alaska Native Tribal elders, issued a cooperative agreement entitled, “Using Traditional Foods and Sustainable Ecological Approaches for Health Promotion and Diabetes Prevention in American Indian/Alaska Native Communities.” The Traditional Foods program seeks to build on what is known about traditional ways in order to inform culturally relevant, contemporary approaches to diabetes prevention for AI/AN communities. The program supports activities that enhance or re-introduce indigenous foods and practices drawn from each awardee's landscape, history, and culture. Example activities include the cultivation of community gardens, organization of local farmers' markets, and the dissemination of culturally appropriate health messages through storytelling, audio and video recordings, and printed materials.

CDC requests OMB approval to collect standardized information, called Traditional Foods Shared Data Elements (SDE), from awardees over a three-year period. The SDE will be organized in three domains: Traditional Local Healthy Foods, Physical Activity, and Social Support for Healthy Lifestyle Change and Maintenance. Since each awardee currently maintains activity data for local program improvement, reporting summary information to CDC in SDE format is not expected to entail significant burden to respondents.

The SDE will allow CDC to compile a systematic, quantifiable inventory of activities, products, and outcomes associated with the Traditional Foods program. The SDE will also allow CDC to analyze aggregate data for improved technical assistance and overall program evaluation, reporting, and identification of outcomes; allow CDC and awardees to create a comprehensive inventory/resource library of diabetes primary prevention ideas and approaches for AI/AN communities and identify emerging best practices; and improve dissemination of success stories. The annual Spring SDE submission will supplement the narrative progress report that awardees submit to CDC as part of the annual continuation application for funding. An additional SDE collection will be conducted annually in the Fall.

Respondents will be 17 Tribes and Tribal organizations that receive funding through the Traditional Foods program. The estimated burden per response is two hours. The SDE will be reported using a Web-based survey interface. The total estimated burden for routine, semi-annual information collection is 68 hours.

CDC also requests OMB approval to conduct one additional cycle of retrospective data collection during the first year of the three-year information collection request. The retrospective information collection will provide baseline SDE information about awardee activities that occurred in FY2010, which is needed for comparison purposes and optimal overall program evaluation. Inclusion of the retrospective data will enable CDC and awardees to have a clearer, more quantifiable view of the growth of Traditional Foods activities over the five-year funding cycle for the cooperative agreement. The estimated annualized burden for the one-time retrospective data collection is 12 hours.

There are no costs to respondents other than their time. The total estimated annualized burden hours are 80.

Estimated Annualized Burden Hours
Type of respondents | Form name | Number of respondents | Number of responses per respondent | Avg. burden per response (in hrs)
AI/AN Tribal Awardees | Traditional Foods Shared Data Elements | 17 | 2 | 2
| One-Time Retrospective Data Collection | 6 | 1 | 2

Dated: January 24, 2011.
Carol E. Walker,
Acting Reports Clearance Officer, Centers for Disease Control and Prevention.

[FR Doc. 2011-2000 Filed 1-28-11; 8:45 am]

BILLING CODE 4163-18-P